DEPARTMENT OF LABOR

Employment and Training Administration

[NAFTA-04598]

Inman Mills, Inman, SC; Notice of Termination of Investigation

Pursuant to Title V of the North American Free Trade Agreement Implementation Act (Public Law 103-182) concerning transitional adjustment assistance, hereinafter called NAFTA-TAA and in accordance with section 250(a), Subchapter D, Chapter 2, Title II, of the Trade Act of 1974, as amended (19 USC 2331), an investigation was initiated on February 28, 2001, in response to a worker petition which was filed on behalf of workers at Inman Mills, Inman, South Carolina.

The petitioner has requested that the petition be withdrawn. Consequently, further investigation in this case would serve no purpose, and the investigation has been terminated.

Signed in Washington, D.C. this 30th day of March, 2001.
Linda G. Poole,
Certifying Officer, Division of Trade Adjustment Assistance.

[FR Doc. 01-9217 Filed 4-12-01; 8:45 am]

BILLING CODE 4510-30-M